DEPARTMENT OF AGRICULTURE

Agricultural Marketing Service

[Doc. No. AMS-FGIS-21-0009]

United States Standards for Beans-Chickpeas

AGENCY: Agricultural Marketing Service, USDA.

ACTION: Notice and request for comments.

SUMMARY: The U.S. Department of Agriculture's (USDA) Agricultural Marketing Service (AMS) is proposing to add a new criterion—Cotyledon Damage—to the chickpea/garbanzo bean damage factors in the Bean Inspection Handbook. The damage factors pertain to the class Chickpea/Garbanzo Beans in the U.S. Standards for Beans under the United States Agricultural Marketing Act (AMA). Stakeholders in the bean processing/handling industry suggested adding a criterion related to white chalky or wafer-like spots in the cotyledon, which can affect chickpea/garbanzo bean flavor. This proposal is intended to update inspection procedures to ensure that the bean standards remain relevant to the market. AMS invites interested parties to comment on whether revising the inspection instructions to include the additional damage factor would facilitate the marketing of chickpea/garbanzo beans. This action would not revise or amend the Grade and Grade Requirements for Chickpea/Garbanzo Beans in the U.S. Standards for Beans.

DATES: We will consider comments we receive by June 21, 2021.

ADDRESSES: Interested persons are invited to submit written comments concerning this notice. All comments must be submitted through the Federal e-rulemaking portal at http://www.regulations.gov and should reference the document number and the date and page number of this issue of the Federal Register. Instructions for submitting and reading comments are detailed on the site. All comments submitted in response to this notice will be included in the record and will be made available to the public. Please be advised that the identity of the individuals or entities submitting comments will be made public on the internet at the address provided above.

FOR FURTHER INFORMATION CONTACT: Loren Almond, USDA AMS; Telephone: (816) 702-3925; or email: Loren.L.Almond@usda.gov.

SUPPLEMENTARY INFORMATION: Under the authority of the AMA (7 U.S.C. 1621-1627), as amended, AMS establishes and maintains a variety of quality and grade standards for agricultural commodities that serve as a fundamental starting point to define commodity quality in the domestic and global marketplace.

Standards developed under the AMA include those for rice, whole dry peas, split peas, feed peas, lentils, and beans. The U.S. standards for whole dry peas, split peas, feed peas, lentils and beans no longer appear in the Code of Federal Regulations, but are now maintained by USDA-AMS-Federal Grain Inspection Service (FGIS). The U.S. standards for beans are voluntary and widely used in private contracts, government procurement, marketing communication, and for some commodities, consumer information.

The bean standards facilitate bean marketing and define U.S. bean quality in the domestic and global marketplace. The standards define commonly used industry terms; contain basic principles governing the application of standards, such as the type of sample used for a particular quality analysis; provide the basis of determination; and specify grades and grade requirements. Official procedures for determining grading factors are provided in the Bean Inspection Handbook. Together, the grading standards and testing procedures allow buyers and sellers to communicate quality requirements, compare bean quality using equivalent forms of measurement, and assist in price discovery.

AMS engages in outreach with stakeholders to ensure commodity standards maintain relevance to the modern market. Stakeholders, including the U.S. Dry Pea and Lentil Council, requested that AMS revise the bean damage factors to include the addition of a new criterion—Cotyledon Damage—in the class Chickpea/Garbanzo Beans. Currently, there is not a definition for Cotyledon Damage in Chickpea/Garbanzo Beans. AMS-FGIS proposes to revise the bean inspection criteria in the Bean Inspection Handbook by including the definition and criteria requirements for Cotyledon Damage in Chickpea/Garbanzo Beans.

Cotyledon Damage in Chickpea/Garbanzo Beans

Under the current bean inspection criteria, white chalky or wafer-like spots are not considered damage in chickpea/garbanzo beans. Stakeholders stated that such spots in chickpea/garbanzo beans negatively affect bean flavor. With the proposed change to the inspection handbook, Cotyledon Damage would be defined as “Chickpea/Garbanzo beans or pieces of Chickpea/Garbanzo beans with a white chalky or wafer-like spot that penetrates the cotyledon (singularly or in combination) that meets or exceeds the minimum coverage shown on VRI—Bean—5.1 Cotyledon Damage (Chickpea/Garbanzo).” The criteria also specify that damage portion size requirements for chickpea/garbanzo beans are approximately 250 grams for small-seeded beans and 500 grams for large-seeded beans. Further, suspect beans must be scraped to confirm the spot penetrates into the cotyledon and is of a size to constitute damage per the definition. AMS believes that addressing cotyledon damage in chickpea/garbanzo beans would assist in moving the U.S. bean market toward fewer quality complaints and serve to ensure consistent grading results across the nation.

AMS grading and inspection services, provided through a network of Federal, State, and private laboratories, conduct tests to determine the quality and condition of beans. These tests are conducted in accordance with applicable standards using approved methodologies and can be applied at any point in the marketing chain. Furthermore, the tests yield rapid, reliable, and consistent results. The U.S. Standards for Beans and the affiliated grading and testing services offered by AMS verify that a seller's beans meet specified requirements and ensure that customers receive the quality purchased.

In order for U.S. standards and grading procedures for beans to remain relevant, AMS invites interested parties to submit comments on the proposal to add criteria pertaining to Cotyledon Damage for the class Chickpea/Garbanzo Beans in the Bean Inspection Handbook. This change would not revise or amend the Grade and Grade Requirements for the class Chickpea/Garbanzo Beans in the U.S. Standards for Beans.

Proposed AMS Action

Based on input from stakeholder organizations in the bean industry, AMS proposes to amend the Bean Inspection Handbook by including the new damage definition and criteria for Cotyledon Damage in Chickpea/Garbanzo Beans.

AMS is accepting comments on this proposed action for 60 days. All comments received within the comment period will be made part of the public record maintained by AMS, will be available to the public for review, and will be considered by AMS before a final action is taken on this proposal.

Authority: 7 U.S.C. 1621-1627.

Erin Morris,
Associate Administrator Agricultural Marketing Service.

[FR Doc. 2021-08374 Filed 4-21-21; 8:45 am]

BILLING CODE P